DEPARTMENT OF HEALTH AND HUMAN SERVICES

Office of the Secretary

Findings of Research Misconduct

AGENCY: Office of the Secretary, HHS.

ACTION: Notice.

Notice is hereby given that the Office of Research Integrity (ORI) has taken final action in the following case:

Marija Manojlovic, University of Pittsburgh: Based on an inquiry conducted and written admission obtained by the University of Pittsburgh (UP) and additional analysis conducted by ORI in its oversight review, ORI found that Ms. Marija Manojlovic, former graduate student, Department of Chemistry, UP, engaged in research misconduct in research supported by National Institute of General Medical Sciences (NIGMS), National Institutes of Health (NIH), grant P50 GM067082, National Cancer Institute (NCI), NIH, grant P01 CA078039, National Institute of Mental Health (NIMH), NIH, grant U54 MH074411, and National Institute of Allergy and Infectious Diseases (NIAID), NIH, grant R01 AI033506.

ORI found that the Respondent engaged in research misconduct by falsifying and fabricating the synthesis and spectral data that were included in one (1) poster presentation and in one (1) pre-submission draft of a paper to be submitted for publication.

Specifically, ORI found that the Respondent knowingly falsified and fabricated the synthesis and characterization, largely in the form of manipulated 1H- and 13C-NMR spectral data, for five intermediate steps and the final product, 9-desmethylpleurotin, and presented these false results in a poster, “Efforts Towards the Total Synthesis of Pleurotin,” presented at the 2011 National Organic Symposium, and in a manuscript, “Total Synthesis of 9-desmethylpleurotin,” prepared for submission to Angewandte Chemie International Edition.

Ms. Manojlovic has voluntarily agreed for a period of three (3) years, beginning on September 26, 2011:

(1) To have her U.S. Public Health Service (PHS)-supported research supervised; Respondent agreed that prior to the submission of an application for PHS support for a research project on which her participation is proposed and prior to her participation in any capacity on PHS-supported research, she shall ensure that a plan for supervision of her duties is submitted to ORI for approval; the supervision plan must be designed to ensure the scientific integrity of her research contribution; Respondent agreed that she shall not participate in any PHS-supported research until such a supervision plan is submitted to and approved by ORI; Respondent agreed to maintain responsibility for compliance with the agreed upon supervision plan;

(2) That any institution employing her shall submit, in conjunction with each application for PHS funds, or report, manuscript, or abstract involving PHS-supported research in which she is involved, a certification to ORI that the data provided by Respondent are based on actual experiments or are otherwise legitimately derived and that the data, procedures, and methodology are accurately reported in the application, report, manuscript, or abstract; and

(3) To exclude herself from serving in any advisory capacity to PHS including, but not limited to, service on any PHS advisory committee, board, and/or peer review committee, or as a consultant.

FOR FURTHER INFORMATION CONTACT: Director, Division of Investigative Oversight, Office of Research Integrity, 1101 Wootton Parkway, Suite 750, Rockville, MD 20852, (240) 453-8800.

John Dahlberg,
Director, Division of Investigative Oversight, Office of Research Integrity.

[FR Doc. 2011-27022 Filed 10-18-11; 8:45 am]

BILLING CODE 4150-31-P